ENVIRONMENTAL PROTECTION AGENCY

[EPA-HQ-OPPT-2024-0425-0009; EPA-HQ-OPP-2013-0266; EPA-HQ-OW-2024-0481; FRL-12590-01-OA]

Three Actions Published by the Environmental Protection Agency With Comment Periods That Close Between February 3, 2025 and February 11, 2025; Notice of Comment Period Extension and Delay of Public Meetings

AGENCY: Environmental Protection Agency (EPA).

ACTION: Notices; extension of comment periods.

SUMMARY: This document extends the comment period for three notices published by the Environmental Protection Agency in the Federal Register on December 3, 2024 and December 13, 2024.

DATES: The original comment periods for notices FRL-12241-02-OCSPP (89 FR 95779, December 3, 2024) and FRL-9941-02-OCSPP (89 FR 96650, December 5, 2024) close on February 3, 2025 and the original comment period for FRL-11244-01-OW (89 FR 10100, December 13, 2024) closes on February 11, 2025. The comment periods are extended. Comments for notice FRL-12241-02-OCSPP (89 FR 95779, December 3, 2024) now must be received on or before March 5, 2025. Comments for notices FRL-9941-02-OCSPP (89 FR 96650, December 5, 2024) and FRL-11244-01-OW (89 FR 10100, December 13, 2024) now must be received on or before April 4, 2025. Comments should be submitted to the original docket for the notice specified in the table in the SUPPLEMENTARY INFORMATION section of this document.

ADDRESSES: You may send comments, identified by appropriate Docket ID number listed in the table below by any of the following methods:

• Federal eRulemaking Portal: https://www.regulations.gov/ (our preferred method). Follow the online instructions for submitting comments.

Instructions: All submissions received must include the Docket ID No. for the original rulemaking as listed in the table below. Comments received may be posted without change to https://www.regulations.gov, including personal information provided.

FOR FURTHER INFORMATION CONTACT: William Nickerson, Director, Office of Regulatory Policy and Management, Office of Policy, Mail Code 1804, U.S. Environmental Protection Agency, 1200 Pennsylvania Ave. NW, Washington, DC 20460; (202) 566-0326; nickerson.william@epa.gov.

SUPPLEMENTARY INFORMATION: This document extends the comment period for three actions published on December 3, 2024 and December 13, 2024. Comments for notice FRL-12241-02-OCSPP (89 FR 95779, December 3, 2024) now must be received on or before March 5, 2025. Comments for notices FRL-9941-02-OCSPP (89 FR 96650, December 5, 2024) and FRL-11244-01-OW (89 FR 10100, December 13, 2024) now must be received on or before April 4, 2025.

Federal Register citation | Title | Publication date | Original comment period end date | Docket ID
89 FR 95779 | 1,3-Butadiene; Draft Risk Evaluation Under the Toxic Substances Control Act (TSCA); Science Advisory Committee on Chemicals (SACC) Peer Review; Notice of SACC Meeting, Availability of Draft Documents and Request for Comment | 12/3/2024 | 2/3/2025 | EPA-HQ-OPPT-2024-0425-0009.
89 FR 96650 | Atrazine; Updated Proposed Mitigation for the Interim Registration Review Decision; Notice of Availability and Request for Comment | 12/5/2024 | 2/3/2025 | EPA-HQ-OPP-2013-0266.
89 FR 101000 | National Pollutant Discharge Elimination System (NPDES) 2026 Issuance of the Multi-Sector General Permit for Stormwater Discharges Associated With Industrial Activity | 12/13/2024 | 2/11/2025 | EPA-HQ-OW-2024-0481.

EPA may identify additional actions for reopening or extending comment periods in subsequent notices.

This document extends the public comment period for the notice “1,3-Butadiene; Draft Risk Evaluation Under the Toxic Substances Control Act (TSCA); Science Advisory Committee on Chemicals (SACC) Peer Review; Notice of SACC Meeting, Availability of Draft Documents and Request for Comment” established in the Federal Register document of December 3, 2024 (89 FR 957790) (FRL-12241-02-OCSPP), for 30 days. In that document, EPA announced the availability of and solicited public comment on the draft risk evaluation for 1,3-butadiene. The draft risk evaluation was prepared under the Toxic Substances Control Act (TSCA) and will be submitted to the Science Advisory Committee on Chemicals (SACC) for peer review. EPA also announced that there will be two virtual public meetings of the SACC: On February 4, 2025, a preparatory meeting for the SACC to consider the scope and clarity of the draft charge questions for the peer review; and on February 25 through 28, 2025, the peer review meeting for the SACC to consider the draft documents and public comments. Both public meetings will be rescheduled.

This document extends the public comment period for the notice “Atrazine; Updated Proposed Mitigation for the Interim Registration Review Decision; Notice of Availability and Request for Comment” established in the Federal Register document of December 5, 2024 (89 FR 96650) (FRL-9941-02-OCSPP), for 60 days. In that document, EPA announced the availability of and requested comment on EPA's proposed updates to the mitigation in the interim registration review decision for atrazine (Case Number 0062). The updated mitigation proposal for atrazine reflected in the memorandum released for comment incorporated the revised level of concern of 9.7 micrograms per liter (µg/L) as well as corrections to exposure modeling and feedback received during the 2022 public comment period. EPA released its updated mitigation proposal to reduce run-off/erosion, which will expand the number of options of mitigation measures growers can choose to implement to reduce potential exposure and risk to aquatic plant communities from atrazine runoff in vulnerable watersheds. The proposal includes placing mitigations on the product labeling, directing users to EPA's mitigation menu website and to the Bulletins Live! Two system. The Agency is not soliciting comment on any other aspects of the atrazine interim registration review decision.

This document extends the public comment period for the notice “National Pollutant Discharge Elimination System (NPDES) 2026 Issuance of the Multi-Sector General Permit for Stormwater Discharges Associated With Industrial Activity” established in the Federal Register document of December 12, 2024 (89 FR 101000) (FRL 11244-01-OW), for 60 days. In that document, all 10 EPA Regions proposed for public comment the 2026 National Pollutant Discharge Elimination System (NPDES) general permit for stormwater discharges associated with industrial activity, also referred to as the “2026 Multi-Sector General Permit (MSGP)” or the “proposed permit.” The proposed permit once finalized will replace the EPA's existing MSGP that expires on February 28, 2026. The EPA proposed to issue this permit for five (5) years. Once finalized, this permit will be available in areas where the EPA is the NPDES permitting authority. The EPA solicits comment on all aspects of the proposed general permit and seeks public comment on specific requests for information as described in the document. The public is encouraged to read the proposed permit fact sheet to better understand the proposed permit requirements.

EPA is extending these comment periods to allow interested parties additional time to thoroughly review and analyze how these notices may impact parties potentially subject to them. Comments previously submitted need not be resubmitted as they are already incorporated into the public record and will be considered in the final action as appropriate. Where appropriate, the Agency may consider further extending the comment period for the above referenced actions. To submit comments, or access the docket, please follow the detailed instructions provided under ADDRESSES. If you have questions, consult the technical person listed under FOR FURTHER INFORMATION CONTACT.

James Payne,
Acting Administrator.

[FR Doc. 2025-02179 Filed 1-31-25; 8:45 am]

BILLING CODE 6560-50-P